DEPARTMENT OF LABOR

Employment and Training Administration

[TA-W-73,156]

American Spring Wire Corporation, Kankakee, IL; Notice of Affirmative Determination Regarding Application for Reconsideration

By application dated August 24, 2010, workers requested administrative reconsideration of the negative determination regarding workers' eligibility to apply for Trade Adjustment Assistance (TAA) applicable to workers and former workers of the subject firm. The determination was issued on July 30, 2010 and the Notice of Determination was published in the Federal Register on August 13, 2010 (75 FR 49532). The workers produce metal stampings.

The negative determination was based on the findings that there was no increase in imports of metal stampings (or like or directly competitive articles) by the subject firm or its customers, and no shift to/acquisition from a foreign country by the workers' firm of article like or directly competitive with the metal stampings produced by the subject workers. The investigation also revealed that the workers did not produce a component part that was used by a firm that employed workers eligible to apply for TAA and used the component parts in the production of the article that was the basis for the certification.

The request for reconsideration alleges that the subject firm supplied component parts to firms in the automotive industry and asserts that increased imports of finished articles that contain foreign-made component parts like or directly competitive with the metal stampings produced by the subject firm contributed importantly to separations at the Kankakee, Illinois facility.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 7th day of October 2010.
Del Min Amy Chen,
Certifying Officer, Office of Trade Adjustment Assistance.

[FR Doc. 2010-26903 Filed 10-22-10; 8:45 am]

BILLING CODE 4510-FN-P